DEPARTMENT OF TRANSPORTATION

Federal Aviation Administration

[Docket No. FAA-2023-1263]

Agency Information Collection Activities: Requests for Comments; Clearance of Renewed Approval of Information Collection: Certification and Operations: Airplanes With Seating Capacity of 20 or More Passenger Seats or Maximum Payload of 6,000 Pounds or More

AGENCY: Federal Aviation Administration (FAA), DOT

ACTION: Notice and request for comments.

SUMMARY: In accordance with the Paperwork Reduction Act of 1995, FAA invites public comments about our intention to request Office of Management and Budget (OMB) approval to renew an information collection. This collection involves the certification and operation of aircraft with seating capacity of 20 or more passengers, or maximum payload of 6,000 pounds or more, and includes the operator application requirements, maintenance requirements, and various operational requirements.

DATES: Written comments should be submitted by April 8, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: John H. Attebury by email at: John.H.Attebury@faa.gov; phone: 281-929-7078.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0085.

Title: Certification and Operations: Airplanes With Seating Capacity of 20 or More Passenger Seats or Maximum Payload of 6,000 Pounds or More.

Form Numbers: There are no FAA forms associated with this collection.

Type of Review: Renewal.

Background: The Federal Register Notice with a 60-day comment period soliciting comments on the following collection of information was published on June 16, 2023 (88 FR 39503). Title 49, United States Code, Section 44701 (formerly the Federal Aviation Act of 1958, Section 601) authorizes the Secretary of Transportation to provide for reasonable rules and regulations necessary to provide for minimum safety. 14 CFR part 125 prescribes requirements for issuing operating certificates and for appropriate operating rules. The reporting and recordkeeping requirements under this collection are necessary for the FAA to issue, reissue, and amend part 125 applicants' operating certificates and operation specifications. A letter of application and related documents that set forth an applicant's ability to conduct operations in compliance with the provisions of 14 CFR part 125 are submitted to the appropriate Flight Standards District Office (FSDO). Inspectors in FAA FSDOs review the submitted information to determine certificate eligibility. If the letter of application, related documents, and inspection show that the applicant satisfactorily meets acceptable safety standards, an operating certificate and operations specifications will be issued. If the information were not collected, the FAA could not discharge its responsibility to promote the safety of large airplane operators during such operations.

Respondents: 54 part 125 operators (38 certificated operators, 15 operators issued a Letter of Deviation Authority (LODA), and one new applicant per year).

Frequency: On occasion.

Estimated Average Burden per Response: 13 minutes.

Estimated Total Annual Burden: Approximately 36,000 hours.

Issued in Washington, DC, on March 5, 2024.
D.C. Morris,
Aviation Safety Analyst, Flight Standards Service, General Aviation and Commercial Division.

[FR Doc. 2024-04997 Filed 3-7-24; 8:45 am]

BILLING CODE 4910-13-P